DEPARTMENT OF AGRICULTURE

Animal and Plant Health Inspection Service

9 CFR Parts 91 and 162

[Docket No. APHIS-2006-0093]

RIN 0579-AC04

National Veterinary Accreditation Program; Correcting Amendment

AGENCY: Animal and Plant Health Inspection Service, USDA.

ACTION: Final rule; correcting amendment.

SUMMARY: In a final rule that was published in the Federal Register on December 9, 2009 (74 FR 64998-65013, Docket No. APHIS-2006-0093), and effective on February 1, 2010, we amended the National Veterinary Accreditation Program regulations, adding new provisions and reorganizing others. In that final rule, we redesignated the section containing the standards for performing accredited veterinarian duties, but we neglected to update citations of that section elsewhere in 9 CFR chapter I. This document corrects those errors.

EFFECTIVE DATE: September 22, 2010.

FOR FURTHER INFORMATION CONTACT: Dr. Todd Behre, National Veterinary Accreditation Program, VS, APHIS, 4700 River Road Unit 200, Riverdale, MD 20737; (301) 851-3401.

SUPPLEMENTARY INFORMATION:

Background

In a final rule that was published in the Federal Register on December 9, 2009 (74 FR 64998-65013, Docket No. APHIS-2006-0093), and effective on February 1, 2010, we amended the National Veterinary Accreditation Program (NVAP) regulations, adding new provisions and reorganizing others.

As part of the reorganization, we redesignated what had been § 161.3, “Standards for performing accredited duties,” as § 161.4. However, we neglected to update two references to § 161.3 elsewhere in the NVAP regulations, specifically in § 162.11 and paragraph (a) of § 162.12. In addition, paragraph (a) of 9 CFR 91.3, which discusses general export requirements for livestock, refers to certification of test results in accordance with paragraph (k) of § 161.3. This document corrects those citations to refer instead to § 161.4.

List of Subjects

9 CFR Part 91

Animal diseases, Animal welfare, Exports, Livestock, Reporting and recordkeeping requirements, Transportation.

9 CFR Part 162

Administrative practice and procedure, Veterinarians.

Accordingly, we are amending 9 CFR parts 91 and 162 as follows:

PART 91—INSPECTION AND HANDLING OF LIVESTOCK FOR EXPORTATION

1. The authority citation for part 91 continues to read as follows:

Authority: 7 U.S.C. 8301-8317; 19 U.S.C. 1644a(c); 21 U.S.C. 136, 136a, and 618; 46 U.S.C. 3901 and 3902; 7 CFR 2.22, 2.80, and 371.4.

§ 91.3 [Amended]

2. In § 91.3, paragraph (a) is amended by removing the citation “§ 161.3(k)” and adding the citation “§ 161.4(k)” in its place.

PART 162—RULES OF PRACTICE GOVERNING REVOCATION OR SUSPENSION OF VETERINARIANS’ ACCREDITATION

3. The authority citation for part 162 continues to read as follows:

Authority: 8301-8317; 15 U.S.C. 1828; 7 CFR 2.22, 2.80, and 371.4.

§ 162.11 [Amended]

4. Section 162.11 is amended by removing the citation “§ 161.3” and adding the citation “§ 161.4” in its place.

§ 162.12 [Amended]

5. In § 162.12, paragraph (a) is amended by removing the citation “§ 161.3” and adding the citation “§ 161.4” in its place.

Done in Washington, DC, this 16th day of September 2010.

Kevin Shea,
Acting Administrator, Animal and Plant Health Inspection Service.

[FR Doc. 2010-23671 Filed 9-21-10: 12:08 pm]

BILLING CODE 3410-34-S